INTERNATIONAL TRADE COMMISSION

[Investigation Nos. 701-TA-627-629 and 731-TA-1458-1461 (Final)]

Utility Scale Wind Towers From Canada, Indonesia, Korea, and Vietnam

Determinations

On the basis of the record ¹ developed in the subject investigations, the United States International Trade Commission (“Commission”) determines, pursuant to the Tariff Act of 1930 (“the Act”), that an industry in the United States is materially injured by reason of imports of utility scale wind towers from Canada, Indonesia, Korea, and Vietnam, provided for in subheadings 7308.20.00 and 8502.31.00 of the Harmonized Tariff Schedule of the United States, that have been found by the U.S. Department of Commerce (“Commerce”) to be sold in the United States at less than fair value (“LTFV”), and to be subsidized by the governments of Canada, Indonesia, and Vietnam.²

¹ The record is defined in § 207.2(f) of the Commission's Rules of Practice and Procedure (19 CFR 207.2(f)).

² The Commission also finds that imports subject to Commerce's affirmative critical circumstances determination are not likely to undermine seriously the remedial effect of the countervailing duty order on utility scale wind towers from Indonesia and the antidumping duty orders on utility scale wind towers from Korea and Vietnam.

Background

The Commission instituted these investigations effective July 9, 2019, following receipt of petitions filed with the Commission and Commerce by Arcosa Wind Towers Inc., Dallas, Texas; and Broadwind Towers Inc., Manitowoc, Wisconsin. The final phase of the investigations was scheduled by the Commission following notification of preliminary determinations by Commerce that imports of utility scale wind towers from Canada, Indonesia, and Vietnam were subsidized within the meaning of section 703(b) of the Act (19 U.S.C. 1671b(b)) and that imports of utility scale wind towers from Canada, Indonesia, Korea, and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 20, 2020 (85 FR 16127). In light of the restrictions on access to the Commission building due to the COVID-19 pandemic, and in accordance with 19 U.S.C. 1677c(a)(1), the Commission conducted its hearing on June 25, 2020 by video conference as set forth in procedures provided to the parties. All persons who requested the opportunity were permitted to participate.

The Commission made these determinations pursuant to §§ 705(b) and 735(b) of the Act (19 U.S.C. 1671d(b) and 19 U.S.C. 1673d(b)). It completed and filed its determinations in these investigations on August 19, 2020. The views of the Commission are contained in USITC Publication 5101 (August 2020), entitled Utility Scale Wind Towers from Canada, Indonesia, Korea, and Vietnam: Investigation Nos. 701-TA-627-629 and 731-TA-1458-1461 (Final).

By order of the Commission.
Issued: August 19, 2020.
Lisa Barton,
Secretary to the Commission.

[FR Doc. 2020-18579 Filed 8-24-20; 8:45 am]

BILLING CODE 7020-02-P